SOCIAL SECURITY ADMINISTRATION

20 CFR Part 404

[Docket No. SSA-2011-0019]

RIN 0960-AH33

Technical Correction for Neurological Listing Cross-Reference

AGENCY: Social Security Administration.

ACTION: Final rule.

SUMMARY: We are making a technical correction to a listing in the neurological body system in the Listing of Impairments. We are correcting a cross-reference that became outdated when we published revisions elsewhere in the Listing of Impairments in 2010. This technical correction will provide an updated cross-reference to conform to the 2010 revisions.

DATES: This final rule is effective March 24, 2011.

FOR FURTHER INFORMATION CONTACT: Cheryl Williams, Office of Medical Listings Improvement, Social Security Administration, 6401 Security Boulevard, Baltimore, Maryland 21235-6401, (410) 965-1020. For information on eligibility or filing for benefits, call our national toll-free number, 1-800-772-1213, or TTY 1-800-325-0778, or visit our Internet site, Social Security Online, at http://www.socialsecurity.gov.

SUPPLEMENTARY INFORMATION: On June 2, 2010, we published final rules that revised the portions of section 102.00 (the Special Senses and Speech body system for children) regarding the evaluation of hearing loss.¹ The rules became effective on August 2, 2010. When we revised the listings for hearing loss in children, we inadvertently did not also revise listing 111.09C in the neurological disorders body system for children. That listing, which addresses communication impairment associated with a neurological disorder, cross-refers to our prior listing for hearing loss in children: listing 102.08. We removed listing 102.08 when we published the 2010 final rules. Since we no longer have that listing, we must correct listing 111.09C.

¹ 75 FR 30693 (June 2, 2010).

Before the final rules we published in 2010 became effective, listing 102.08 was the only listing for hearing loss in children. We now have two such listings: listings 102.10 and 102.11. In the notice of proposed rulemaking for the hearing loss listing changes, we explained that we were revising listing 102.08 and changing it to listing 102.10, and that we would use it only for children who do not have cochlear implants. We also explained that we were adding a new listing 102.11 for children who have cochlear implants.² Both listings include criteria for children with hearing loss who have communication impairments.³ Therefore, we are changing the cross-reference in listing 111.09C to refer to both of the current listings.

² 73 FR 47103, 47107 (August 13, 2008).

³ See listings 102.10B2, 102.10B3, and 102.11B, 75 FR at 30704.

Regulatory Procedures

We follow Administrative Procedure Act (APA) rulemaking procedures specified in 5 U.S.C. 553 when we develop regulations. Section 702(a)(5) of the Social Security Act, 42 U.S.C. 902(a)(5). The APA provides exceptions to its notice and public comment procedures when an agency finds there is good cause for dispensing with such procedures because they are impracticable, unnecessary, or contrary to the public interest. 5 U.S.C. 553(b)(B). The change we are making in this rule only corrects an error in a cross-reference. Because the change we are making is only a minor technical correction to a rule to correct an outdated cross-reference, we have determined that the opportunity for prior comment is unnecessary. Therefore, we are issuing this rule as a final rule.

In addition, we find that there is good cause for dispensing with the 30-day delay in the effective date of a substantive rule provided by 5 U.S.C. 553(d)(3). For the reasons already discussed, because this change is a minor technical correction to a rule, a delay in the effective date is unnecessary.

Executive Order 12866, as Supplemented by Executive Order 13563

We consulted with the Office of Management and Budget (OMB) and determined that this final rule does not meet the requirements for a significant regulatory action under Executive Order 12866, as supplemented by Executive Order 13563. Therefore, it was not subject to OMB review.

Regulatory Flexibility Act

We certify that this final rule will not have a significant economic impact on a substantial number of small entities because it affects only individuals. Therefore, a regulatory flexibility analysis was not required under the Regulatory Flexibility Act, as amended.

Paperwork Reduction Act

This rule does not create any new or affect any existing collections, and therefore, does not require Office of Management and Budget approval under the Paperwork Reduction Act.

(Catalog of Federal Domestic Assistance Program Nos. 96.001, Social Security—Disability Insurance; 96.002, Social Security—Retirement Insurance; 96.004, Social Security—Survivors Insurance; and 96.006, Supplemental Security Income)

List of Subjects in 20 CFR Part 404

Administrative practice and procedure, Blind, Disability benefits, Old-Age, Survivors, and Disability Insurance, Reporting and recordkeeping requirements, Social Security.

Michael J. Astrue,
Commissioner of Social Security.

For the reasons set out in the preamble, we are amending subpart P of part 404 of chapter III of title 20 of the Code of Federal Regulations as set forth below:

PART 404—FEDERAL OLD-AGE, SURVIVORS AND DISABILITY INSURANCE (1950- )

1. The authority citation for subpart P of part 404 continues to read as follows:

Authority: Secs. 202, 205(a)-(b), and (d)-(h), 216(i), 221(a), (i), and (j), 222(c), 223, 225, and 702(a)(5) of the Social Security Act (42 U.S.C. 402, 405(a)-(b), and (d)-(h), 416(i), 421(a), (i), and (j), 422(c), 423, 425, and 902(a)(5)); sec. 211(b), Pub. L. 104-193, 110 Stat. 2105, 2189; sec. 202, Pub. L. 108-203, 118 Stat. 509 (42 U.S.C. 902 note).

2. Amend appendix 1 to subpart P of part 404 by revising section 111.09C of part B to read as follows:

APPENDIX 1 TO SUBPART P OF PART 404—LISTING OF IMPAIRMENTS

* * * * *

Part B

* * * * *

111.00 [Neurological]

* * * * *

111.09 * * *

C. Impairment of hearing as described under the criteria in 102.10 or 102.11.

* * * * *

[FR Doc. 2011-6983 Filed 3-23-11; 8:45 am]

BILLING CODE 4191-02-P